DEPARTMENT OF AGRICULTURE

Forest Service

Silver Pearl Land Exchange; Eldorado National Forest, El Dorado and Placer Counties, California

AGENCY: Forest Service, USDA.

ACTION: Notice of intent to prepare an environmental impact statement.

SUMMARY: The USDA, Forest Service, will prepare an environmental impact statement (EIS) on a proposal to acquire approximately 3,994 acres of Sierra Pacific Industries Corporation land in exchange for 2,126 acres of National Forest System land. The purpose of the exchange is to improve land management efficiencies by consolidating land ownership, while obtaining lands providing a variety of public benefits, including ecological and recreational values; and to eliminate the need to provide access to a private parcel within a roadless (RARE II) area. It is believed that the integrity of recreational, ecological and economic values will be improved by the consolidation of ownership resulting from a land exchange. The values of the lands exchanged must be equal.

DATES: The draft Environmental Impact Statement (EIS) is scheduled to be completed in June 2002 for public review and comment. The final EIS is scheduled to be completed by December 2002.

ADDRESSES: Send written comments to Elaine Gee, Project Leader, Eldorado National Forest, 7600 Wentworth Springs Road, Georgetown, CA 95634.

FOR FURTHER INFORMATION CONTACT: Questions and comments about this EIS should be directed to Elaine Gee, at the above address, or call her at 530-333-4312.

SUPPLEMENTARY INFORMATION: The Forest Service is initiating this action in order to exchange lands that will provide a balance in public benefits while improving management opportunities. Lands within the Rubicon River Canyon (recommended for Wild and Scenic River status), the Silver Fork of the American River (a Wild and Scenic eligible river) and the Pyramid-Bassi Roadless Area (RARE II); lands along the Pony Express National Historic Trail are proposed for acquisition; along with other lands containing unique ecological values, valuable timber resources and important recreational opportunities. The lands to be exchanged also contain important resource values, including lands suitable for growth and harvest of commercial conifers and areas that contain quality wildlife habitat. Also considered is the opportunity to consolidate lands into contiguous blocks that can be more efficiently and economically managed, thereby facilitating the ownership objectives of both the Forest Service and Sierra Pacific Industries Corporation. All federal lands proposed for exchange are on the Eldorado National Forest and are in compliance with the land adjustment management direction in the 1989 Eldorado National Forest Land and Resources Management Plan.

The exchange meets the public interest requirements in 36 CFR 254.3(b): (1) The resource values and the public objectives served by the non-federal lands and interests to be acquired are equal or exceed the resource values and the public objectives served by the federal lands to be disposed; and (2) the intended use of the disposed federal land will not substantially conflict with established management objectives on adjacent federal lands.

Lands will be exchanged on a value for value basis, based on current fair market value appraisals. The appraisal is prepared in accordance with the Uniform Standards for Federal Land Acquisition. The appraisal prepared for the land exchange is reviewed by a qualified review appraiser to ensure that it is fair and complies with the appropriate standards. Under the Federal Land Policy and Management Act of 1976, all exchanges must be equal in value. Forest Service regulations at 36 CFR 254.3(c) require that exchanges must be of equal value or equalized pursuant to 35 CFR 254.12 by cash payment after making all reasonable efforts to equalize values by adding or deleting lands. If lands proposed for exchange are not equal in value, either party may make them equal by cash payment not to exceed 25 percent of the federal land value.

The decision to be made is what lands, if any, should be exchanged as part of this proposal. The proposed action is to exchange approximately 2,126 acres of National Forest System land for approximately 3,994 acres of Sierra Pacific Industries Corporation land, adjusted for equal value as required by law. Other alternatives will be developed based on significant issues identified during the scoping process for the environmental impact statement. All alternatives will need to respond to the specific condition of providing benefits equal to or better than the current condition. Alternatives being considered at this time include: (1) no action and (2) exchanging lands as identified in the proposed action.

Public participation will be especially important at several points during the analysis. The Forest Service will be seeking information, comments, and assistance from the Federal, State, and local agencies and other individuals or organizations who may be interested in or affected by the proposed action. To facilitate public participation information about the proposed action was mailed to all who expressed interest in the proposed action based on publication in the Eldorado National Forest Schedule of Proposed Action. The Forest Service hosted a public meeting/open house to present the proposal at the Eldorado National Forest Headquarters at 100 Forni Road Placerville, CA on December 13, 2001. Notification of the additional public scoping periods will be published in the Mountain Democrat, Placerville, CA. The DEIS is scheduled to be available in June 2002 and the Forest will host another public meeting after the draft is mailed to interested parties.

Comments submitted during the scoping process should be in writing and should be specific to the proposed action. The comments should describe as clearly and completely as possible any issues the commenter has with the proposal. The scoping process includes:

(a) Identifying potential issues;

(b) Identifying issues to be analyzed in depth.

(c) Eliminating nonsignificant issues or those previously covered by a relevant previous environmental analysis;

(d) Exploring additional alternatives;

(e) Identifying potential environmental effects of the proposed action and alternatives.

The draft EIS is expected to be filed with the Environmental Protection Agency (EPA) and to be available for public review by June 2002. EPA will publish a notice of availability of the draft EIS in the Federal Register. The comment period on the draft EIS will be 45 days from the date the EPA notice appears in the Federal Register. At that time, copies of the draft EIS will be distributed to interested and affected agencies, organizations, and members of the public for their review and comment. It is very important that those interested in the management of the Eldorado National Forest participate at that time.

The Forest Service believes it is important to give reviewers notice at this early stage of several court rulings related to public participation in the environmental review process. First, reviewers of a draft EIS must structure their participation in the environmental review of the proposal so that it is meaningful and alerts an agency to the reviewer's position and contentions, Vermont Yankee Nuclear Power Corp. v. NRDC, 435 U.S. 519, 553 (1978). Also, environmental objections that could be raised at the draft EIS stage, but that are not raised until after completion of the final EIS may be waived or dismissed by the courts, City of Angoon v. Hodel, 803f. 2d 1016, 1022 (9th Cir, 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act at 40 CFR 1503.3 in addressing these points).

The final EIS is scheduled to be completed in December 2002. In the final EIS, The Forest Service is required to respond to substantive comments received during the comment period that pertain to the environmental consequences discussed in the draft EIS and applicable laws, regulations, and policies considered in making the decision regarding this proposal.

John Berry, Forest Supervisor, Eldorado National Forest is the responsible official. As the responsible official he will document the decision and reasons for the decision in the Record of Decision. That decision will be subject to Forest Service appeal regulations (36 CFR part 215).

Dated: February 19, 2002.
John D. Berry,
Forest Supervisor.

[FR Doc. 02-4368 Filed 2-22-02; 8:45 am]

BILLING CODE 3410-11-M